INTERNATIONAL TRADE COMMISSION

[Investigation No. 337-TA-685]

In the Matter of Certain Flash Memory and Products Containing Same Notice of Request for Statements on the Public Interest

Section 337 of the Tariff Act of 1930 provides that if the Commission finds a violation it shall exclude the articles concerned from the United States:

unless, after considering the effect of such exclusion upon the public health and welfare, competitive conditions in the United States economy, the production of like or directly competitive articles in the United States, and United States consumers, it finds that such articles should not be excluded from entry.

19 U.S.C. § 1337(d)(1). A similar provision applies to cease and desist orders. 19 U.S.C. 1337(f)(1).

The Commission is interested in further development of the record on the public interest in its investigations. Accordingly, the parties are invited to file submissions of no more than five (5) pages concerning the public interest in light of the administrative law judge's Recommended Determination on Remedy and Bonding issued in this investigation on February 28, 2011. Comments should address whether issuance of a limited exclusion order and/or a cease and desist order in this investigation could affect the public health and welfare in the United States, competitive conditions in the United States economy, the production of like or directly competitive articles in the United States, or United States consumers.

In particular, the Commission is interested in comments that:

(i) Explain how the articles potentially subject to the orders are used in the United States;

(ii) Identify any public health, safety, or welfare concerns in the United States relating to the potential orders;

(iii) Indicate the extent to which like or directly competitive articles are produced in the United States or are otherwise available in the United States, with respect to the articles potentially subject to the orders; and

(iv) Indicate whether Complainant, Complainant's licensees, and/or third party suppliers have the capacity to replace the volume of articles potentially subject to a limited exclusion order and/or a cease and desist order within a commercially reasonable time.

Any submissions are due on April 4, 2011.

By order of the Commission.
Issued: March 7, 2011.
James R. Holbein,
Acting Secretary to the Commission.

[FR Doc. 2011-5533 Filed 3-9-11; 8:45 am]

BILLING CODE 7020-02-P